DEPARTMENT OF DEFENSE

Department of the Army

Proposed Collection; Comment Request

AGENCY: Office of the Administrative Assistant to the Secretary of the Army, (OAA-RPA), DoD.

ACTION: Notice.

In compliance with Section 3506(c)(2)(A) of the Paperwork Reduction Act of 1995, the Department of the Army announces the proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 28, 2007.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Military Surface Deployment and Distribution Command, 200 Stovall Street, Hoffman Building II, Alexandria, Virginia 22332-5000, ATTN: SDDC-PPP-PO, Room 10N67 (Gail Collier), or call Department of the Army reports clearance officer at (703) 428-6440.

Title, Associated Form, and OMB Number: Uniform Tender of Rates and/or Charges for Domestic Transportation Services (DOD/USCG Sponsored Household Goods); SDDC Form 43-R; OMB Control Number 0702-0018.

Needs and Uses: Department of Defense approved household goods carrier files rates to engage in the movement of DOD and United States Coast Guard sponsored shipments within the continental United States. Headquarters, Military Surface Deployment and Distribution Command evaluates the rates and awards the traffic to low rate responsible carriers whose rates are responsive and most advantageous to the Government.

Affected Public: Business or other for profit.

Annual Burden Hours: 3,160.

Number of Respondents: 1,580.

Responses per Respondent: 4.

Average Burden per Response: 30 minutes.

Frequency: Semi-annually.

SUPPLEMENTARY INFORMATION:

Summary of Information Collection

The method SDDC uses to procure shipments is the voluntary submission by carriers during two intrastate filing cycles each year, May 1 to October 31 and November 1 to April 30. Historically, carriers file higher rates in the winter cycle. By accepting rates in two cycles, the Government experiences lower costs during the summer month for the same services. If rates were filed less frequently, shipments would move at higher cost.

Dated: October 22, 2007.
Patricia L. Toppings,
Alternate OSD Federal Register Liaison Officer, Department of Defense.

[FR Doc. 07-5344 Filed 10-26-07; 8:45 am]

BILLING CODE 5001-06-M